DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: 2013 Survey of Income and Program Participation, Event History Calendar Field Test.

OMB Control Number: 0607-0957.

Form Number(s): SIPP-EHC 105(L)2013-Director's Letter; SIPP-EHC-105(L)(SP) 2013—Director's Letter Spanish; SIPP-EHC 4006A Brochure; SIPP/CAPI Automated Instrument.

Type of Request: Revision of a currently approved collection.

Burden Hours: 6,300.

Number of Respondents: 6,300.

Average Hours per Response: 1 hour.

Needs and Uses: The U.S. Census Bureau requests authorization from the Office of Management and Budget (OMB) to conduct the 2013 Survey of Income and Program Participation Event History Calendar (SIPP-EHC) Field Test.

The Census Bureau's SIPP-EHC computer-assisted personal interviewing (CAPI) will use an Event History Calendar (EHC) interviewing method and a 12-month, calendar-year reference period in place of the current SIPP questionnaire approach that uses a sliding 4-month reference period. The Census Bureau also plans to use Computer Assisted Recorded Interview (CARI) technology for a sample of the respondents during the 2013 SIPP-EHC. The Census Bureau is re-engineering the SIPP to accomplish several goals including re-engineering the collection instrument and processing system, development of the EHC in the instrument, use of the administrative records data where feasible, and increased stakeholder interaction.

The main objective of the SIPP has been, and continues to be, to provide accurate and comprehensive information about the income and program participation of individuals and households in the United States. The survey's mission is to provide a nationally representative sample for evaluating: (1) Annual and sub-annual income dynamics, (2) movements into and out of government transfer programs, (3) family and social context of individuals and households, and (4) interactions among these items. A major use of the SIPP has been to evaluate the use of and eligibility for government programs and to analyze the impacts of modifications to those programs. The re-engineering of SIPP pursues these objectives in the context of several goals including cost reduction, improved accuracy, increased relevance and timeliness, reduced burden on respondents, and increased accessibility. The 2013 SIPP-EHC will collect detailed information on cash and non-cash income (including participation in government transfer programs) once per year.

A key component of the re-engineering process involves the proposed shift from the every-four-month data collection schedule of traditional SIPP to an annual data collection schedule for the re-engineered survey. To accomplish this shift with minimal impact on data quality, the Census Bureau proposes employing the use of an event history calendar to gather SIPP data. The 2013 SIPP-EHC will re-interview respondents interviewed in 2012, collecting data for the previous calendar year as the reference period. The content of the 2013 SIPP-EHC will closely match that of the 2012 SIPP-EHC. The SIPP-EHC design does not contain freestanding topical modules as in the current production SIPP instrument; however, a portion of traditional SIPP topical module content is integrated into the main body of the 2013 SIPP-EHC interview. The EHC allows recording dates of events and spells of coverage and should provide measures of monthly transitions of program receipt and coverage, labor force transitions, health insurance transitions, and others. The 2013 SIPP-EHC will be the second test using dependent data in conjunction with calendar methods to reduce burden and improve quality, and the first opportunity to re-engage respondents who either refused to participate or could not be located for the 2012 SIPP-EHC wave 2 interviews. Further, the 2013 SIPP-EHC will be the final dry-run prior to administration of the SIPP-EHC as the production SIPP instrument in early CY 2014.

During the field period for the 2012 SIPP-EHC, a separate sample was interviewed using the same instrument, but with Computer Assisted Recorded Interview (CARI) technology implemented. For a sample of the respondents during the 2013 SIPP-EHC audio recordings will again be used. The Census Bureau is using CARI during data collection to capture audio along with screen images and data values for responses during the computer-assisted personal interviews (CAPI). With the respondent's consent, a portion of each interview is recorded unobtrusively and both the sound file and screen images are returned with the response data to a central location for coding. The CARI technology will again be used in conjunction with the 2013 SIPP-EHC. Portions of both the 2012 wave 2 SIPP-EHC and 2012 wave 1 SIPP-EHC (CARI) samples will be recorded as part of the 2013 SIPP-EHC administration. In 2012 the CARI respondents were first interviewed and recorded as a separate sample utilizing a CARI enabled version of the 2012 SIPP-EHC instrument. In 2013, the CARI sample will be combined with the SIPP-EHC sample, which will test the capability of the SIPP-EHC instrument to perform multiple paths during the same interview period. In 2013, the SIPP-EHC CARI sample is a Wave 2 interview, while the 2012 SIPP-EHC sample will be in its third wave. The CARI recordings will not be limited to only the previously recorded cases; instead, the sample being recorded in 2013 will contain both previously recorded cases and some Wave 3 SIPP-EHC cases. This is a critical evaluation, as evidence from external surveys (Panel Study of Income Dynamics—PSID) suggests that simply asking the consent question could be associated with a significant increase in survey length. External researchers at the Institute for Social Research at the University of Michigan suspect that improved FR adherence to protocol is one of the sources for the longer interviews. Additionally, we need information on the association between CARI, interview length, and interview quality.

As a quality assurance tool, the recorded portions of the interview allow quality assurance analysts to evaluate the likelihood that the exchange between the field representative and respondent is authentic and follows critical survey protocol as defined by the sponsor and based on best practices. The 2013 SIPP-EHC field test instrument will utilize the CARI Interactive Data Access System (CARI System), an innovative, integrated, multifaceted monitoring system that features a configurable web-based interface for behavior coding, quality assurance, and coaching. This system assists in coding interviews for measuring question and interviewer performance and the interaction between interviewers and respondents.

The 2013 SIPP-EHC Field Test will be conducted in all 6 Census Regional Offices from January through March of 2013. Approximately 3,000 households are expected to be interviewed for the 2013 SIPP-EHC field test, which is comprised of approximately 2,000 cases returning for a third wave from the 2012 SIPP-EHC and approximately 1,000 cases returning for a second wave from the 2012 SIPP-EHC CARI. We estimate that each household contains 2.1 people aged 15 and above, yielding approximately 6,300 person-level interviews in the field test. Interviews take one hour on average. The 2013 SIPP-EHC will not be using the re-contact experiment previously used in the 2012 SIPP-EHC.

The 2013 SIPP-EHC Field Test will continue the EHC methodology implemented in the 2012 Field Test instrument. The EHC is intended to help respondents recall information in a more natural “autobiographical” manner by using life events as triggers to recall other economic events. For example, a residence change can in many cases occur contemporaneously with a change in employment. The entire process of compiling the calendar focuses, by its nature, on consistency and sequential order of events, and attempts to correct for otherwise missing data. For example, unemployed respondents may undertake a lengthy job search before becoming employed.

The 2013 SIPP-EHC Field Test instrument will be evaluated in several domains including field implementation issues and data comparability vis-à-vis the 2008 SIPP Panel and administrative records. Distributional characteristics such as the percent of persons receiving TANF, Food Stamps, Medicare, who are working, who are enrolled in school, or who have health insurance coverage reported in the EHC will be compared to the same distributions from the 2008 SIPP Panel. The primary focus will be to examine the quality of data that the new instrument yields for low-income programs relative to the current SIPP and other administrative sources. The field test sample is focused in low-income areas in order to increase the “hit rate” of households likely to participate in government programs.

Results from the 2010-2013 Field Tests and the 2008 SIPP Panel will be used to inform final decisions regarding the design, content, and implementation of the SIPP-EHC for its production beginning in 2014.

Affected Public: Individuals or households.

Frequency: One time.

Respondent's Obligation: Voluntary.

Legal Authority: Title 13 U.S.C., Section 182.

OMB Desk Officer: Brian Harris-Kojetin, (202) 395-7314.

Copies of the above information collection proposal can be obtained by calling or writing Jennifer Jessup, Departmental Paperwork Clearance Officer, (202) 482-0336, Department of Commerce, Room 6616, 14th and Constitution Avenue NW., Washington, DC 20230 (or via the Internet at jjessup@doc.gov).

Written comments and recommendations for the proposed information collection should be sent within 30 days of publication of this notice to Brian Harris-Kojetin, OMB Desk Officer either by fax (202-395-7245) or email (bharrisk@omb.eop.gov).

Dated: August 31, 2012.
Glenna Mickelson,
Management Analyst, Office of the Chief Information Officer.

[FR Doc. 2012-21947 Filed 9-5-12; 8:45 am]

BILLING CODE 3510-07-P